FEDERAL MINE SAFETY AND HEALTH REVIEW COMMISSION

Meetings; Sunshine Act

December 10, 2008.

Time and Date: 10 a.m., Thursday, January 8, 2009.

Place: The Richard V. Backley Hearing Room, 9th Floor, 601 New Jersey Avenue, NW., Washington, DC.

Status: Open.

Matters to be Considered: The Commission will consider and act upon the following in open session: Secretary of Labor v. Nelson Quarries, Inc., Docket Nos. CENT 2006-151-M, CENT 2006-203-M, and CENT 2006-201-M. (Issues include whether the Administrative Law Judge properly concluded that certain individuals were agents of the operator and therefore their negligence was imputable to the operator for unwarrantable failure and penalty assessment purposes, that the operator's violation of 30 CFR 56.6130(a) was significant and substantial, and that the operator violated 30 CFR 56.6300(b).)

Any person attending this meeting who requires special accessibility features and/or auxiliary aids, such as sign language interpreters, must inform the Commission in advance of those needs. Subject to 29 CFR 2706.150(a)(3) and 2706.160(d).

Contact Person for More Info: Jean Ellen, (202) 434-9950/(202) 708-9300 for TDD Relay/1-800-877-8339 for toll free.

Jean H. Ellen,
Chief Dockets Clerk.

[FR Doc. E8-30209 Filed 12-16-08; 4:15 pm]

BILLING CODE 6735-01-P